DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Eric J. Smart, Ph.D., University of Kentucky: Based on the report of an investigation conducted by the University of Kentucky (UK) and additional analysis conducted by ORI in its oversight review, ORI found that Dr. Eric J. Smart, former Professor of Pediatrics and Physiology, Department of Pediatrics and Physiology, UK, engaged in research misconduct in research supported by National Heart, Lung, and Blood Institute (NHLBI), National Institutes of Health (NIH), grants R01 HL062844, R01 HL058475, R01 HL064056, R01 HL068059, and R01 HL073693, National Institute of Diabetes and Digestive and Kidney Diseases (NIDDK), NIH, grant R56 DK063025, and National Center for Research Resources (NCRR), NIH, grant P20 RR105592.

ORI found that the Respondent engaged in research misconduct by falsifying and/or fabricating data that were included in ten (10) published papers, one (1) submitted manuscript, seven (7) grant applications, and three (3) progress reports over a period of ten (10) years. Respondent reported experimental data for knockout mice that did not exist in five (5) grant applications and three (3) progress reports and also falsified and/or fabricated images in 45 figures included in the following:

• J. Biol. Chem. 277(7):4925-31, 2002

• Am J. Physiol. Cell Physiol. 291(6):C1271-8, 2006

• Am J. Physiol. Cell Physiol. 294(1):C295-305, 2008

• J. Lipid Res. 42:1444-1449, 2001

• J. Biol. Chem. 275:25595, 2000

• J. Biol. Chem. 277(26):23525-33, 2002

• Proc. Natl. Acad. Sci. USA 101(10):3450-5, 2004

• J. Biol. Chem. 280(33):29543-50, 2005

• J. Biol. Chem. 273:6525-6532, 1998

• Am J. Physiol. Cell Physiol. 282:C935-46, 2002

• “Effects of HIV protease and nucleoside reverse transcriptase inhibitors on macrophage cholesterol accumulation in humans,” submitted August 6, 2008

• R01 HL078976-01

• R01 HL078979-01A1

• R01 DK063025-01A2

• R01 HL088150-01

• U54 CA116853-01

• R01 HL093155-01

• R01 HL068509-01A1

• Progress reports HL078976-02, -03, and -04.

As a result of its investigation, UK recommended that the publication(s) listed above be retracted or corrected.

Specifically, ORI finds that Respondent:

• Falsely reported in Figure 14 and associated text in NIH grant applications R01 HL07897601 and -01A1 that experiments were performed to determine if endothelial-specific caveolin-1 null mice were protected from saturated fatty acid-induced atherosclerosis, when these mutant mice did not exist in the laboratory at the time; Dr. Smart also falsely reported the use of these mice in related progress reports R01 HL078976-02, -03, and -04 and in three (3) additional NIH grant applications: Figure 11 in R01 HL088150-01, Figure 11 in U54 CA116853, and Figure 9 in DK063025-01A2

• Falsified and/or fabricated images in NIH grant application R01 HL078976-01A1 by duplicating and altering bands in 14 Western blot images and one (1) RT-PCR image included in Figures 3, 6, 11, 12, 13, 14, and 15; false Western blots were also included in the earlier version of the grant application R01 HL078976-01, Figures 3, 6, 11, 13, and 14

• Falsified and/or fabricated Western blots and one (1) RNase protection assay by duplicating and altering bands in thirty-three (33) figures included in ten (10) published papers, one (1) submitted manuscript, and two (2) NIH grant applications. Specifically, false or fabricated images were included in:

< Figures 5 and 7, J. Biol. Chem. 277(7):4925-31, 2002

< Figure 4B, Am J. Physiol. Cell Physiol. 291(6):C1271-8, 2006

< Figures 2A, 3A, 6A, and 7A, Am J. Physiol. Cell Physiol. 294(1):C295-305, 2008

< Figures 3, 5, and 6, J. Lipid Res. 45:1444-1449, 2001

< Figure 2A, J. Biol. Chem. 275(33):25595-99, 2000

< Figures 2A/B/C and 4A/B, J. Biol. Chem. 277(26):23525-33, 2002

< Figures 2B/D and 4, Proc. Natl. Acad. Sci. USA 101(10):3450-5, 2004

< Figures 1A and 5B, J. Biol. Chem. 280(33):29543-50, 2005

< Figures 1A, 2A/B, and 4A, J. Biol. Chem. 273:6525-6532, 1998

< Figure 1B, Am J. Physiol. Cell Physiol. 282:C935-46, 2002

< Figures 2A, 4, 6B, 7, and 8 in a submitted manuscript

< Figures 7A, 8A, 9A, and 10B in grant application HL093155-01

< Figures 4, 7, and 13 in grant application HL068509-01A1.

Dr. Smart has entered into a Voluntary Exclusion Agreement and has voluntarily agreed for a period of seven (7) years, beginning on October 23, 2012:

(1) To exclude himself from any contracting or subcontracting with any agency of the United States Government and from eligibility or involvement in nonprocurement programs of the United States Government referred to as “covered transactions” pursuant to HHS' Implementation (2 CFR part 376 et seq.) of OMB Guidelines to Agencies on Govermentwide Debarment and Suspension, 2 CFR part 180 (collectively the “Debarment Regulations”);

(2) To exclude himself voluntarily from serving in any advisory capacity to PHS including, but not limited to, service on any PHS advisory committee, board, and/or peer review committee, or as a consultant; and

(3) To request that the following publications be retracted or corrected: J. Biol. Chem. 277(7):4925-31, 2002; Am J. Physiol. Cell Physiol. 291(6):C1271-8, 2006; Am J. Physiol. Cell Physiol. 294(1):C295-305, 2008; J. Lipid Res. 42:1444-1449, 2001; J. Biol. Chem. 275:25595, 2000; J. Biol. Chem. 277(26):23525-33, 2002; Proc. Natl. Acad. Sci. USA 101(10):3450-5, 2004; J. Biol. Chem. 280(33):29543-50, 2005; J. Biol. Chem. 273:6525-6532, 1998; Am J. Physiol. Cell Physiol. 282:C935-46, 2002.

FOR FURTHER INFORMATION CONTACT: Director, Office of Research Integrity, 1101 Wootton Parkway, Suite 750, Rockville, MD 20852, (240) 453-8200.

David E. Wright,
Director, Office of Research Integrity.

[FR Doc. 2012-28209 Filed 11-19-12; 8:45 am]

BILLING CODE 4150-31-P